DEPARTMENT OF ENERGY

Federal Energy Regulatory Commission

[Project No. 199-205]

South Carolina Public Service Authority; Notice of Meeting

The National Marine Fisheries Service (NMFS) has contacted Commission staff regarding a meeting with South Carolina Public Service Authority (SCPSA), licensee for the Santee-Cooper Hydroelectric Project No. 199, and staff to continue discussions of what is needed to complete formal consultation for shortnose sturgeon (Acipenser brevirostrum) under section 7 of the Endangered Species Act. Accordingly, Commission staff will meet with representatives of NMFS and SCPSA, the Commission's non-federal representative for the Santee-Cooper Project, on Tuesday, November 8, 2011. The meeting will start at 9 a.m. at NMFS' office at 263 13th Avenue South, St. Petersburg, Florida. All local, state, and federal agencies, and interested parties, are hereby invited to attend and observe this meeting. Questions concerning the meeting should be directed to Dr. Stephania Bolder of NMFS at (727) 824-5312.

Dated: October 19, 2011.
Kimberly D. Bose,
Secretary.

[FR Doc. 2011-27523 Filed 10-24-11; 8:45 am]

BILLING CODE 6717-01-P